SMALL BUSINESS ADMINISTRATION

[Disaster Declaration # 20776 and # 20777; NEW YORK Disaster Number NY-20019]

Administrative Disaster Declaration of a Rural Area for the State of New York

AGENCY: U.S. Small Business Administration.

ACTION: Notice.

SUMMARY: This is a notice of an Administrative Rural disaster declaration of a rural area for the State of New York dated November 25, 2024.

Incident: Remnants of Tropical Storm Debby.

DATES: Issued on November 25, 2024.

Incident Period: August 8, 2024 through August 10, 2024.

Physical Loan Application Deadline Date: January 24, 2025.

Economic Injury (EIDL) Loan Application Deadline Date: August 25, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's disaster declaration of a rural area, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Franklin, St. Lawrence.

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 207768 and for economic injury is 207770.

The States which received an EIDL Declaration are New York.

(Catalog of Federal Domestic Assistance Number 59008)

Isabella Guzman,
Administrator.

[FR Doc. 2024-28240 Filed 12-2-24; 8:45 am]

BILLING CODE 8026-09-P